ENVIRONMENTAL PROTECTION AGENCY

[EPA-HQ-OPP-2014-0233; FRL-9947-12]

Stakeholder Workshop To Discuss Interim Scientific Methods Used in Draft Biological Evaluations; Notice of Public Meeting

AGENCY: Environmental Protection Agency (EPA).

ACTION: Notice.

SUMMARY: EPA's Office of Pesticide Programs, the U.S. Fish and Wildlife Service (FWS), and the National Marine Fisheries Service (NMFS) (collectively, the Services), and the U.S. Department of Agriculture (USDA) are holding a 2-day workshop to discuss potential refinements to the interim scientific methods used in the first nationwide draft biological evaluations for chlorpyrifos, diazinon, and malathion, released for public comment on April 11, 2016. These interim scientific methods were developed by EPA and the Services, with collaboration from USDA on crop production, pesticide use, and the spatial footprint of agricultural use patterns, in response to the 2013 National Academy of Sciences (NAS) report entitled, “Assessing Risks to Endangered and Threatened Species from Pesticides.” This workshop builds upon public meetings held in November 2013, April and October 2014, and April 2015, and provides a forum for stakeholders to offer scientific and technical feedback on three topics of interest: (1) Improving aquatic modeling, (2) refinements to Step 1 (making “may affect” or “no effect” determinations) and Step 2 (making “likely to adversely affect” or “not likely to adversely affect” determinations), and (3) the weight of evidence approach. The workshop is not designed, or intended, to be a decision-making forum; consensus will not be sought, or developed at the meeting. This meeting is intended to further the agencies' goal of developing a sustainable methodology and process as part of the consultation process for assessing pesticide impacts on threatened and endangered (listed) species that is efficient, inclusive, and transparent.

DATES: The meeting will be held on June 29, 2016 from 8:00 a.m. to 5:30 p.m. and June 30, 2016 from 8:30 a.m. to 5:00 p.m. There will be a teleconference line and webinar available for those interested in calling in for introductory and concluding plenary sessions at the beginning and the end of the workshop. Attendees must register by June 22, 2016 to attend either in person or via teleconference/webinar.

To request accommodation of a disability, please contact the person(s) listed under FOR FURTHER INFORMATON CONTACT, preferably at least 10 days prior to the meeting, to give EPA and the Services as much time as possible to process your request.

ADDRESSES: The meeting will be held at FWS Skyline Bldg. 7, 5275 Leesburg Pike, Bailey's Crossroads, VA 22041-3803, in the Rachel Carson Room. See Unit III for additional information.

Requests to participate in the meeting, identified by docket identification (ID) number EPA-HQ-OPP-2014-0233, may be submitted to the persons listed under FOR FURTHER INFORMATION CONTACT.

FOR FURTHER INFORMATION CONTACT: For general information and to register to attend, contact: Khue Nguyen, Pesticide Re-evaluation Division (7508P), Office of Pesticide Programs, Environmental Protection Agency, 1200 Pennsylvania Ave. NW., Washington, DC 20460-0001; telephone number: 703-347-0248; email address: nguyen.khue@epa.gov.

For meeting logistics and special accommodations, contact: Leona Laniawe, U.S. Fish and Wildlife Service Headquarters, Ecological Services, 5275 Leesburg Pike, Falls Church, VA 22041-3803; telephone: (703) 358-2640; email address: leona_laniawe@fws.gov.

SUPPLEMENTARY INFORMATION:

I. General Information

A. Does this action apply to me?

You may be potentially affected by this action if you develop, manufacture, formulate, sell, and/or apply pesticide products, and if you are interested in the potential impacts of pesticide use on listed species. The following list of North American Industrial Classification System (NAICS) codes is not intended to be exhaustive, but rather provides a guide to help readers determine whether this document applies to them. Potentially affected entities may include:

• Crop Production (NAICS code 111).

• Animal Production (NAICS code 112).

• Food Manufacturing (NAICS code 311).

• Pesticide Manufacturing (NAICS code 32532).

B. How can I get copies of this document and other related information?

The docket for this action, identified by docket ID number EPA-HQ-OPP-2014-0233, is available at http://www.regulations.gov or at the Office of Pesticide Programs Regulatory Public Docket (OPP Docket) in the Environmental Protection Agency Docket Center (EPA/DC), West William Jefferson Clinton Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

This workshop is an opportunity for stakeholders and agencies to continue their dialogue on the technical aspects of implementing the NAS recommendations in the context of ongoing interagency efforts to develop a method for assessing risks to endangered species. This workshop builds upon implementation of the enhanced stakeholder engagement process that was finalized in March 2013, and public meetings held in November 2013, April and October 2014, and April 2015. The workshop is not designed, or intended to be a decision-making forum; consensus will not be sought, or developed at the meeting. Stakeholders are invited to provide feedback and suggest ideas for further refinement in three topic areas related to the draft biological evaluations for the three pilot chemicals (chlorpyrifos, diazinon, and malathion): (1) Improving aquatic exposure modeling, (2) refinements to the interim method for Step 1 (making “may affect” or “no effect” determinations) and Step 2 (making “likely to adversely affect” or “not likely to adversely affect” determinations), and (3) the approach to the weight of evidence.

The structure of this workshop differs from the structure of previous workshops. Only the opening and concluding plenary sessions of the workshop will be open to the general public. The rest of the workshop is divided into 6 breakout groups. Each breakout group will discuss technical questions related to the three main topics of interest: (1) Improving aquatic modeling, (2) refinements to Step 1 and Step 2, and (3) the approach to the weight of evidence. Because of the highly technical nature of these topics, the breakout groups will be by invitation only during initial registration. Invitees with specialized expertise in the three topic areas will be identified by the workshop Steering Committee composed of members from EPA, FWS, NMFS, and representatives from industry, grower groups, and environmental non-governmental organizations (NGOs). After initial registration, each breakout group will be open to the public on a first-come-first-served basis until maximum capacity is reached. Maximum capacity is 20 people per breakout group.

The agencies' interim approach document entitled, “Interagency Approach for Implementation of the National Academy of Sciences Report”, dated November 13, 2013, and the presentation materials from the November 2013 stakeholder workshop are available at: http://www.epa.gov/oppfead1/endanger/2013/nas.html. Presentations supporting the previous stakeholder workshops held in April and October 2014 are available in the docket EPA-HQ-OPP-2014-0233. Presentations supporting the stakeholder workshop in April 2015 and the draft biological evaluations for chlorpyrifos, diazinon, and malathion are available at: https://www.epa.gov/endangered-species/implementing-nas-report-recommendations-ecological-risk-assessment-endangered-and.

Representatives from the federal agencies will participate in the breakout groups and plenary sessions to guide the discussion and answer clarifying questions regarding the need for refinement of the current interim methods. The agencies see this workshop as an integral component of the stakeholder engagement process developed for pesticide consultations that contributes to the agencies' commitment to adapt and refine the interim approaches as we progress through the initial pesticide consultations for chlorpyrifos, diazinon, and malathion.

III. How can I request to participate in this meeting?

You may submit a request to participate in this meeting to the person(s) listed under FOR FURTHER INFORMATION CONTACT. Do not submit any information in your request that is considered CBI. Requests to participate in the meeting, identified by docket ID number EPA-HQ-OPP-2014-0233, must be received on or before June 22, 2016.

Authority: 7 U.S.C. 136 et seq.

Dated: May 31, 2016.
Michael Goodis,
Acting Director, Pesticide Re-evaluation Division, Office of Pesticide Programs.

[FR Doc. 2016-13301 Filed 6-3-16; 8:45 am]

BILLING CODE 6560-50-P